DEPARTMENT OF JUSTICE

Bureau of Alcohol, Tobacco, Firearms and Explosives

Agency Information Collection Activities: Proposed Collection; Comments Requested

ACTION: 60-day notice of information collection under review: application for Federal Firearms License.

FOR FURTHER INFORMATION CONTACT: Brenda E. Dyer, (202) 616-1167.

Correction

In the Federal Register issue of March 3, 2004, in FR Doc. 04-4773, on page 10062, the Department of Justice published a 60-day notice for an information collection for the Bureau of Alcohol, Tobacco, Firearms and Explosives. This collection has been revised. In the Action line, the revised title should read “Application for Federal Firearms License”. The following identified items in the section labeled “Overview of this information collection” should read:

(1) Type of information collection: Revision of a currently approved collection.

(2) Title of the Form/Collection: Application for Federal Firearms License.

(3) No Change.

(4) The form is used when applying for a Federal firearms license as a dealer, importer, or manufacturer. The information requested on the form establishes eligibility for the license. The information collection has been revised and among the changes are the option to pay the fee for the license by credit card, the title and estimated burden.

(5) Estimated 6,200 respondents.

(6) Estimated 7,750 total annual burden hours.

Dated: April 16, 2004.
Brenda E. Dyer,
Department Deputy Clearance Officer, PRA, Department of Justice.

[FR Doc. 04-9125 Filed 4-21-04; 8:45 am]

BILLING CODE 4410-FY-P